DEPARTMENT OF THE INTERIOR

Fish and Wildlife Service

[FWS-R7-ES-2023-N060; FXES11140700000-234-FF07C00000]

Endangered and Threatened Wildlife and Plants; Initiation of 5-Year Status Reviews of the Aleutian Shield Fern and the Alaska Breeding Population of Steller's Eider

AGENCY: Fish and Wildlife Service, Interior.

ACTION: Notice; request for information.

SUMMARY: We, the U.S. Fish and Wildlife Service, are initiating 5-year status reviews of the Aleutian shield fern and the Alaska breeding population of Steller's eider under the Endangered Species Act. A 5-year status review is based on the best scientific and commercial data available at the time of the review. We are requesting submission of any new information on these species that has become available since the last reviews of the species. We invite comments and information from the public and local, State, Tribal, and Federal agencies.

DATES: To ensure consideration of your comments in our preparation of these 5-year status reviews, we must receive your comments and information by March 11, 2024. However, we will accept information about any species at any time.

ADDRESSES: For Aleutian shield fern, please submit your information by one of the following methods:

• Email: sabrina_farmer@fws.gov; or

• U.S. mail or hand delivery: U.S. Fish and Wildlife Service, Attention: Sabrina Farmer, Southern Alaska Fish and Wildlife Field Office, 4700 BLM Road, Anchorage, AK 99507.

For the Alaska breeding population of Steller's eider, please submit your information by one of the following methods:

• Email: nathan_graff@fws.gov; or

• U.S. mail or hand-delivery: U.S. Fish and Wildlife Service, Attention: Nathan Graff, Northern Alaska Fish and Wildlife Field Office, 101 12th Avenue, Fairbanks, AK 99701.

For more about submitting information, see Request for Information in the SUPPLEMENTARY INFORMATION section.

FOR FURTHER INFORMATION CONTACT: For Aleutian shield fern, contact Sabrina Farmer, by telephone at 907-271-2778 or by one of the methods in ADDRESSES.

For the Alaska breeding population of Steller's eider, contact Nathan Graff, by telephone at 907-251-9428 or by one of the methods in ADDRESSES.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), are initiating 5-year status reviews of the Aleutian shield fern (Polystichum aleuticum) and the Alaska breeding population of Steller's eider (Polysticta stelleri) under the Endangered Species Act of 1973, as amended (ESA; 16 U.S.C. 1531 et seq.). A 5-year status review is based on the best scientific and commercial data available at the time of the review; therefore, we are requesting submission of any new information on this species that has become available since the last 5-year reviews were conducted in 2019.

Why do we conduct 5-year reviews?

Under the ESA, we maintain Lists of Endangered and Threatened Wildlife and Plants (which we collectively refer to as the List) in the Code of Federal Regulations (CFR) at 50 CFR 17.11 (for animals) and 17.12 (for plants). Section 4(c)(2)(A) of the ESA requires us to review each listed species' status at least once every 5 years. Further, our regulations at 50 CFR 424.21 require that we publish a notice in the Federal Register announcing those species under active review. For additional information about 5-year reviews, go to http://www.fws.gov/endangered/what-we-do/recovery-overview.html.

What information do we consider in our review?

In conducting these reviews, we consider the best scientific and commercial data that have become available since the listing determination or most recent status review, such as:

1. The biology of the species, including but not limited to population trends, distribution, abundance, demographics, and genetics;

2. Habitat conditions, including but not limited to amount, distribution, and suitability;

3. Conservation measures that have been implemented that benefit the species;

4. Threat status and trends in relation to the five listing factors (as defined in section 4(a)(1) of the ESA); and

5. Other new information, data, or corrections, including but not limited to taxonomic or nomenclatural changes, identification of erroneous information contained in the List, and improved analytical methods.

Any new information will be considered during the 5-year review and will also be useful in evaluating the ongoing recovery programs for the species.

Species Under Review

Entity listed: Aleutian shield fern (Polystichum aleuticum).

• Where listed: Wherever found.

• Classification: Endangered.

• Date listed (publication date for final listing rule): February 17, 1988.

• Federal Register citation for final listing rule: 53 FR 4626.

Entity listed: Steller's eider (Polysticta stelleri).

• Where listed: United States (Alaska breeding population only).

• Classification: Threatened.

• Date listed (publication date for final listing rule): June 11, 1997.

• Federal Register citation for final listing rule: 62 FR 31748.

Request for Information

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

Public Availability of Comments

Before including your address, phone number, email address, or other personal identifying information in your comments, you should be aware that your entire comment—including your personal identifying information—may be made publicly available at any time. While you can ask us in your comment to withhold your personal identifying information from public review, we cannot guarantee that we will be able to do so.

Contents of Submissions

Please make your comments as specific as possible. Please confine your comments to issues for which we seek comments in this notice, and explain the basis for your comments. Include sufficient information with your comments to allow us to authenticate any scientific or commercial data you include.

The comments and recommendations that will be most useful and likely to be relevant to agency decisions are: (1) Those supported by quantitative information or studies; and (2) Those that include citations to, and analyses of, the applicable laws and regulations.

Authority

This document is published under the authority of the Endangered Species Act of 1973, as amended (16 U.S.C. 1531 et seq.).

Peter Fasbender,
Assistant Regional Director, Fisheries and Ecological Services.

[FR Doc. 2024-00257 Filed 1-8-24; 8:45 am]

BILLING CODE 4333-15-P